DEPARTMENT OF COMMERCE

International Trade Administration

Application for an Export Trade Certificate of Review

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506(c)(2)(A)).

DATES: Written comments must be submitted on or before May 24, 2005.

ADDRESSES: Direct all written comments to Diana Hynek, Departmental Paperwork Clearance Officer, Department of Commerce, Room 6625, 14th & Constitution Avenue, NW., Washington, DC 20230 or via the Internet at: dHynek@doc.gov.

FOR FURTHER INFORMATION CONTACT: Requests for additional information or copies of the information collection instrument and instructions should be directed to: Chris Rasmussen, Export Trading Company Affairs, Industry Analysis, Room 1104, 14th & Constitution Ave., NW., Washington, DC 20230; phone: (202) 482-5131, and fax: (202) 482-1790.

SUPPLEMENTARY INFORMATION:

I. Abstract

Title III of the Export Trading Company Act of 1982 (Pub. L. No. 97-290, 96 Stat. 1233-1247), requires the Department of Commerce to establish a program to evaluate applications for Export Trade Certificates of Review, and with the concurrence of the Department of Justice, issue such certificates where the requirements of the Act are satisfied. The Act requires that Commerce, with Justice concurrence, issue regulations governing the evaluation and issuance of certificates before Commerce can accept applications for certification. The collection of information is necessary for the antitrust analysis which is a prerequisite to issuance of a certificate. Without the information there would be no basis upon which a certificate could be issued. In the Department of Commerce, this economic and legal analysis will be performed by the Office of Export Trading Company Affairs and the Office of the General Counsel. The Department of Justice analysis will be conducted by the Antitrust Division. The purpose of such analysis is to make a determination as to whether or not to approve an application and issue an Export Trade Certificate of Review. If this information is not collected, the antitrust analysis cannot be performed and without that analysis no certificate can be issued. A certificate provides its holder and members named in the certificate (a) immunity from government actions under state and Federal antitrust laws for the export conduct specified in the certificate; (b) some protection from frivolous private suits by limiting their liability in private actions to actual damages when the challenged activities are covered by an Export Certificate of Review. Title III was enacted to reduce uncertainty regarding application of U.S. antitrust laws to export activities—especially those involving actions by domestic competitors.

II. Method of Collection

Form ITA-4093P is sent by request to U.S. firms.

III. Data

OMB Number: 0625-0125.

Form Number: ITA-4093P.

Type of Review: Revision-Regular Submission.

Affected Public: Business or other for-profit; Not-for-profit institutions and State, local or Tribal Government.

Estimated Number of Respondents: 30.

Estimated Time Per Response: 32 hours.

Estimated Total Annual Burden Hours: 960.

Estimated Total Annual Costs: The estimated annual cost for this collection is $344,400 ($260,000 government and $134,400 respondents).

IV. Request for Comments

Comments are invited (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology. Comments submitted in response to this notice will be summarized and/or included in the request for OMB approval of this information collection; they also will become a matter of public record.

Dated: March 22, 2005.
Madeleine Clayton,
Management Analyst, Office of the Chief Information Officer.

[FR Doc. 05-5940 Filed 3-24-05; 8:45 am]

BILLING CODE 3510-DR-P